DEPARTMENT OF ENERGY

Federal Energy Regulatory Commission

Sunshine Act Meeting

October 18, 2000.

The following notice of meeting is published pursuant to section 3(A) of the Government in the Sunshine Act (Pub. L. No. 94-409), 5 U.S.C 552B:

AGENCY HOLDING MEETING: Federal Energy Regulatory Commission.

DATE AND TIME: October 25, 2000, 10:00 a.m.

PLACE: Room 2C, 888 First Street, NE., Washington, DC 20426.

STATUS: Open.

MATTERS TO BE CONSIDERED: Agenda.

Note: Items listed on the agenda may be deleted without further notice.

CONTACT PERSON FOR MORE INFORMATION: David P. Boergers, Secretary, Telephone (202) 208-0400. For a recording listing items stricken from or added to the meeting, call (202) 208-1627.

This is a list of matters to be considered by the Commission. It does not include a listing of all papers relevant to the items on the agenda; however, all public documents may be examined in the reference and information center.

750th—Meeting October 25, 2000, Regular Meeting, (10 a.m.)

Consent Agenda—Markets, Tariffs and Rates—Electric

CAE-1.

Docket# ER00-3513, 000, PJM Interconnection, L.L.C.

CAE-2.

Docket# ER00-3577, 000, New England Power Pool

CAE-3.

Omitted

CAE-4.

Omitted

CAE-5.

Docket# ER00-3609, 000, New England Power Pool

CAE-6.

Omitted

CAE-7.

Omitted

CAE-8.

Docket# ER00-3188, 000, Sierra Pacific Power Company and Nevada Power Company

CAE-9.

Docket# ER00-108, 000, Idaho Power Company

CAE-10.

Docket# ER00-2132, 001, Entergy Services, Inc.

Other#s ER00-2132, 002, Entergy Services, Inc.

CAE-11.

Docket# ER00-2019, 002, California Independent System Operator Corporation

CAE-12.

Docket# ER00-2015, 003, Nevada Power Company

Other#s ER00-2018, 003, Sierra Pacific Power Company

CAE-13.

Docket# ER97-1523, 046, Central Hudson Gas & Electric Corporation, Consolidated Edison Company of New York, Inc., Long Island Lighting Company, New York State Electric & Gas Corporation, Niagara Mohawk Power Corporation, Orange and Rockland Utilities, Inc., Rochester Gas and Electric Corporation and New York Power Pool

Other#s OA97-470, 044, Central Hudson Gas & Electric Corporation, Consolidated Edison Company of New York, Inc., Long Island Lighting Company, New York State Electric & Gas Corporation, Niagara Mohawk Power Corporation, Orange and Rockland Utilities, Inc., Rochester Gas and Electric Corporation and New York Power Pool

OA97-470, 045, Central Hudson Gas & Electric Corporation, Consolidated Edison Company of New York, Inc., Long Island Lighting Company, New York State Electric & Gas Corporation, Niagara Mohawk Power Corporation, Orange and Rockland Utilities, Inc., Rochester Gas and Electric Corporation and New York Power Pool

OA97-470, 046, Central Hudson Gas & Electric Corporation, Consolidated Edison Company of New York, Inc., Long Island Lighting Company, New York State Electric & Gas Corporation, Niagara Mohawk Power Corporation, Orange and Rockland Utilities, Inc., Rochester Gas and Electric Corporation and New York Power Pool

OA97-470, 047, Central Hudson Gas & Electric Corporation, Consolidated Edison Company of New York, Inc., Long Island Lighting Company, New York State Electric & Gas Corporation, Niagara Mohawk Power Corporation, Orange and Rockland Utilities, Inc., Rochester Gas and Electric Corporation and New York Power Pool

OA97-470, 048, Central Hudson Gas & Electric Corporation, Consolidated Edison Company of New York, Inc., Long Island Lighting Company, New York State Electric & Gas Corporation, Niagara Mohawk Power Corporation, Orange and Rockland Utilities, Inc., Rochester Gas and Electric Corporation and New York Power Pool

ER97-1523, 047, Central Hudson Gas & Electric Corporation, Consolidated Edison Company of New York, Inc., Long Island Lighting Company, New York State Electric & Gas Corporation, Niagara Mohawk Power Corporation, Orange and Rockland Utilities, Inc., Rochester Gas and Electric Corporation and New York Power Pool

ER97-1523, 048, Central Hudson Gas & Electric Corporation, Consolidated Edison Company of New York, Inc., Long Island Lighting Company, New York State Electric & Gas Corporation, Niagara Mohawk Power Corporation, Orange and Rockland Utilities, Inc., Rochester Gas and Electric Corporation and New York Power Pool

ER97-1523, 049, Central Hudson Gas & Electric Corporation, Consolidated Edison Company of New York, Inc., Long Island Lighting Company, New York State Electric & Gas Corporation, Niagara Mohawk Power Corporation, Orange and Rockland Utilities, Inc., Rochester Gas and Electric Corporation and New York Power Pool

ER97-1523, 050, Central Hudson Gas & Electric Corporation, Consolidated Edison Company of New York, Inc., Long Island Lighting Company, New York State Electric & Gas Corporation, Niagara Mohawk Power Corporation, Orange and Rockland Utilities, Inc., Rochester Gas and Electric Corporation and New York Power Pool

ER97-4234, 042, Central Hudson Gas & Electric Corporation, Consolidated Edison Company of New York, Inc., Long Island Lighting Company, New York State Electric & Gas Corporation, Niagara Mohawk Power Corporation, Orange and Rockland Utilities, Inc., Rochester Gas and Electric Corporation and New York Power Pool

ER97-4234, 043, Central Hudson Gas & Electric Corporation, Consolidated Edison Company of New York, Inc., Long Island Lighting Company, New York State Electric & Gas Corporation, Niagara Mohawk Power Corporation, Orange and Rockland Utilities, Inc., Rochester Gas and Electric Corporation and New York Power Pool

ER97-4234, 044, Central Hudson Gas & Electric Corporation, Consolidated Edison Company of New York, Inc., Long Island Lighting Company, New York State Electric & Gas Corporation, Niagara Mohawk Power Corporation, Orange and Rockland Utilities, Inc., Rochester Gas and Electric Corporation and New York Power Pool

ER97-4234, 045, Central Hudson Gas & Electric Corporation, Consolidated Edison Company of New York, Inc., Long Island Lighting Company, New York State Electric & Gas Corporation, Niagara Mohawk Power Corporation, Orange and Rockland Utilities, Inc., Rochester Gas and Electric Corporation and New York Power Pool

ER97-4234, 046, Central Hudson Gas & Electric Corporation, Consolidated Edison Company of New York, Inc., Long Island Lighting Company, New York State Electric & Gas Corporation, Niagara Mohawk Power Corporation, Orange and Rockland Utilities, Inc., Rochester Gas and Electric Corporation and New York Power Pool

ER00-556, 005, Central Hudson Gas & Electric Corporation, Consolidated Edison Company of New York, Inc., Long Island Lighting Company, New York State Electric & Gas Corporation, Niagara Mohawk Power Corporation, Orange and Rockland Utilities, Inc., Rochester Gas and Electric Corporation and New York Power Pool

CAE-14.

Docket# ER97-1523, 051, Central Hudson Gas & Electric Corporation, Consolidated Edison Company of New York, Inc., Long Island Lighting Company, New York State Electric & Gas Corporation, Niagara Mohawk Power Corporation, Orange and Rockland Utilities, Inc., Rochester Gas and Electric Corporation and New York Power Pool

Other#s OA97-470, 049, Central Hudson Gas & Electric Corporation, Consolidated Edison Company of New York, Inc., Long Island Lighting Company, New York State Electric & Gas Corporation, Niagara Mohawk Power Corporation, Orange and Rockland Utilities, Inc., Rochester Gas and Electric Corporation and New York Power Pool

ER97-4234, 047, Central Hudson Gas & Electric Corporation, Consolidated Edison Company of New York, Inc., Long Island Lighting Company, New York State Electric & Gas Corporation, Niagara Mohawk Power Corporation, Orange and Rockland Utilities, Inc., Rochester Gas and Electric Corporation and New York Power Pool

CAE-15.

Docket# ER98-441, 022, Southern California Edison Company, California Independent System Operator Corporation and El Segundo Power, LLC

Other#s ER98-495, 018, Pacific Gas and Electric Company, Duke Energy Moss Landing LLC and Duke Energy Oakland LLC

ER98-496, 011, San Diego Gas & Electric Company

ER98-1614, 008, Pacific Gas and Electric Company, Duke Energy Moss Landing LLC and Duke Energy Oakland LLC

ER98-2145, 008, Pacific Gas and Electric Company, Duke Energy Moss Landing LLC and Duke Energy Oakland LLC

ER98-2160, 009, San Diego Gas & Electric Company

ER98-2550, 005, Southern California Edison Company, California Independent System Operator Corporation and El Segundo Power, LLC

ER98-2668, 011, Pacific Gas and Electric Company, Duke Energy Moss Landing LLC and Duke Energy Oakland LLC

ER98-2669, 010, Pacific Gas and Electric Company, Duke Energy Moss Landing LLC and Duke Energy Oakland LLC

ER98-4296, 008, Pacific Gas and Electric Company, Duke Energy Moss Landing LLC and Duke Energy Oakland LLC

ER98-4300, 008, Pacific Gas and Electric Company, Duke Energy Moss Landing LLC and Duke Energy Oakland LLC

ER99-1127, 009, Duke Energy Moss Landing LLC and Duke Energy Oakland LLC

ER99-1128, 009, Duke Energy Moss Landing LLC and Duke Energy Oakland LLC

CAE-16.

Docket# EL98-29, 001, Morgan Stanley Capital Group v. Illinois Power Company

CAE-17.

Docket# ER98-1568, 001, Potomac Electric Power Company

Other#s ER97-3189, 017, GPU Energy, et al.

ER98-1569, 001, PP&L, Inc.

ER98-1570, 001, GPU Energy

ER98-1608, 001, Delmarva Power & Light Company

ER98-1609, 001, Atlantic City Electric Company

ER98-1621, 001, Public Service Electric and Gas Company

ER98-2011, 001, Peco Energy Company

CAE-18.

Docket# ER00-2429, 003, Unicom Energy, Inc.

CAE-19.

Docket# RM00-7, 000, Revision of Annual Charges Assessed to Public Utilities

CAE-20.

Docket# RM95-9, 013, Open Access Same-Time Information System and Standards of Conduct

CAE-21.

Docket# EL00-85, 000, PJM Interconnection, L.L.C.

Other#s EC00-105, 000, PJM Interconnection, L.L.C., Atlantic City Electric Company, Baltimore Gas and Electric Company, Delmarva Power & Light Company, Jersey Central Power & Light Company, Metropolitan Edison Company, Pepco Energy Company, Pennsylvania Electric Company, Potomac Electric Power Company, PPL Electric Utilities Corporation and Public Service Electric & Gas Company

CAE-22.

Docket# EL00-108, 000, Tenaska Power Services Company v. Southwest Power Pool, Inc.

CAE-23.

Docket# EL00-105, 000, City of Vernon, California

CAE-24.

Docket# EL00-73, 000, Mansfield Municipal Electric Department and North Attleborough Electric Department v. New England Power Company

CAE-25.

Docket# EL00-103, 000, Morgan Stanley Capital Group Inc. v. New York Independent System Operator, Inc.

CAE-26.

Docket # ER00-860, 000, San Diego Gas & Electric Company

Other #s ER00-860, 001, San Diego Gas & Electric Company

Consent Agenda—Markets, Tariffs and Rates—Gas

CAG-1.

Omitted

CAG-2.

Docket # RP99-355, 003, Baltimore Gas & Electric Company

CAG-3.

Docket # RP00-566, 000, PG&E Gas Transmission, Northwest Corporation

CAG-4.

Omitted

CAG-5.

Omitted

CAG-6.

Docket # RP00-455, 002, Honeoye Storage Corporation

CAG-7.

Docket # RP00-594, 000, Young Gas Storage Company, Ltd.

CAG-8.

Docket # RP00-589, 000, ANR Pipeline Company

CAG-9.

Docket # RP97-71, 022, Transcontinental Gas Pipe Line Corporation

Other #s RP97-312, 009, Transcontinental Gas Pipe Line Corporation

CAG-10.

Docket # RP00-559, 000, Reliant Energy Gas Transmission Company

Other #s RP00-559, 001, Reliant Energy Gas Transmission Company

CAG-11.

Docket # RP00-504, 000, Union Gas Limited

CAG-12.

Docket # RP00-563, 000, Chandeleur Pipe Line Company

CAG-13.

Docket # RP00-628, 000, Kinder Morgan Interstate Gas Transmission LLC

CAG-14.

Docket # GT00-37, 000, Tennessee Gas Pipeline Company

CAG-15.

Omitted

CAG-16.

Docket # RP00-428, 000, Great Lakes Gas Transmission Limited Partnership

Other #s RP91-143, 050, Great Lakes Gas Transmission Limited Partnership

CAG-17.

Omitted

CAG-18.

Omitted

CAG-19.

Docket # RP00-543, 000, Texas Eastern Transmission Corporation

CAG-20.

Docket # TM99-6-29, 001, Transcontinental Gas Pipe Line Corporation

CAG-21.

Docket # RP00-17, 001, Transcontinental Gas Pipe Line Corporation

CAG-22.

Docket # RP00-83, 005, Texas Gas Transmission Corporation

Other #s RP00-83, 004, Texas Gas Transmission Corporation

CAG-23.

Docket # RP00-260, 001, Texas Gas Transmission Corporation

Other #s RP00-260, 002, Texas Gas Transmission Corporation

CAG-24.

Omitted

CAG-25.

Docket # RP97-431, 009, Natural Gas Pipeline Company of America

CAG-26.

Docket # RM96-1, 014, Standards for Business Practices of Interstate Natural Gas Pipelines

Other #s RP00-553, 000, Transcontinental Gas Pipe Line Corporation

RP00-554, 000, Pine Needle LNG Company, LLC

RP00-562, 000, Clear Creek Storage Company, L.L.C.

RP00-574, 000, Honeoye Storage Corporation

RP00-575, 000, Mississippi Canyon Gas Pipeline, LLC

RP00-576, 000, Nautilus Pipeline Company, L.L.C.

RP00-577, 000, Garden Banks Gas Pipeline, LLC

RP00-582, 000, Northern Border Pipeline Company

RP00-583, 000, Florida Gas Transmission Company

RP00-587, 000, Paiute Pipeline Company

RP00-588, 000, Blue Lake Gas Storage Company

RP00-590, 000, ANR Storage Company

RP00-593, 000, Steuben Gas Storage Company

RP00-597, 000, ANR Pipeline Company

RP00-598, 000, Discovery Gas Transmission LLC

RP00-600, 000, Williston Basin Interstate Pipeline Company

RP00-601, 000, Dominion Transmission, Inc.

RP00-603, 000, Sabine Pipe Line LLC

RP00-604, 000, Columbia Gas Transmission Corporation

RP00-605, 000, Columbia Gulf Transmission Company

RP00-606, 000, Great Lakes Gas Transmission Limited Partnership

RP00-609, 000, Trunkline Gas Company

RP00-612, 000, Sea Robin Pipeline Company

RP00-613, 000, Panhandle Eastern Pipe Line Company

RP00-616, 000, Trunkline LNG Company

RP00-617, 000, Gulf States Transmission Corporation

RP00-618, 000, U-T Offshore System, L.L.C.

RP00-619, 000, High Island Offshore System, L.L.C.

RP00-620, 000, Stingray Pipeline Company, L.L.C.

RP00-621, 000, Mojave Pipeline Company

RP00-622, 000, El Paso Natural Gas Company

RP00-624, 000, Trailblazer Pipeline Company

RP00-625, 000, Canyon Creek Compression Company

RP00-626, 000, Transwestern Pipeline Company

RP00-627, 000, Northern Natural Gas Company

RP00-629, 000, Kinder Morgan Interstate Gas Transmission LLC

RP00-630, 000, K N Wattenberg Transmission Limited Liability Company

RP00-631, 000, Natural Gas Pipeline Company of America

RP01-2, 000, National Fuel Gas Supply Corporation

RP01-7, 000, Koch Gateway Pipeline Company

RP01-8, 000, Mississippi River Transmission Corporation

RP01-9, 000, Alliance Pipeline L.P.

RP01-10, 000, Ozark Gas Transmission, L.L.C.

RP01-11, 000, Arkansas Western Pipeline, L.L.C.

RP01-12, 000, Reliant Energy Gas Transmission Company

RP01-13, 000, Williams Gas Pipelines Central, Inc.

RP01-14, 000, Tuscarora Gas Transmission Company

RP01-15, 000, PG&E Gas Transmission, Northwest Corporation

RP01-16, 000, Dauphin Island Gathering Partners

RP01-17, 000, Maritimes & Northeast Pipeline, L.L.C.

RP01-18, 000, Tennessee Gas Pipeline Company

RP01-19, 000, Midwestern Gas Transmission Company

RP01-22, 000, East Tennessee Natural Gas Company

RP01-23, 000, Algonquin Gas Transmission Company

RP01-25, 000, Texas Eastern Transmission Corporation

RP01-29, 000, Michigan Gas Storage Company

CAG-27.

Docket# RP99-507, 000, Amoco Energy Trading Corporation, Amoco Production Company and Burlington Resources Oil & Gas Company v. El Paso Natural Gas Company

Other#s RP00-139, 000, K N Marketing, L.P. v. El Paso Natural Gas Company

CAG-28.

Docket# OR00-11, 000, Eott Energy Operating Limited Partnership v. Conoco Pipe Line Company

CAG-29.

Docket# RP00-544, 000, Carnegie Interstate Pipeline Company

CAG-30.

Docket# RP01-26, 000, El Paso Natural Gas Company

CAG-31.

Docket# RP01-28, 000, Mojave Pipeline Company

CAG-32.

Docket# RP00-425, 001 Williams Gas Pipelines Central, Inc.

Consent Agenda—Energy Projects—Hydro

CAH-1.

Docket# P-2170 012, Chugach Electric Association, Inc.

CAH-2.

Docket# P-2058 015, Avista Corporation

CAH-3.

Omitted

CAH-4.

Docket# P-2842, 029, City of Idaho Falls

Other#s P-553, 066, City of Seattle

P-619, 077, City of Santa Clara, California

P-637, 015, Public Utility District No. 1 of Chelan County

P-943, 068, Public Utility District No. 1 of Chelan County

P-1417, 052, The Central Nebraska Public Power and Irrigation District

P-1862, 041, City of Tacoma

P-2000, 019, New York Power Authority

P-2016, 033, City of Tacoma

P-2042, 009, Public Utility District No. 1 of Pendoreille County

P-2101, 057, Sacramento Municipal Utility District

P-2144, 020, City of Seattle

p-2145, 035, Public Utility District No. 1 of Chelan County

P-2149, 072, Public Utility District No. 1 of Douglas County

P-2216, 037, New York Power Authority

P-2685, 006, New York Power Authority

P-2705, 012, City of Seattle

P-2952, 061, City of Idaho Falls

P-2959, 076, City of Seattle

P-2997, 019, South Sutter Water District

P-6842, 097, Cities of Aberdeen and Tacoma

P-10551, 069, City of Oswego

Consent Agenda—Energy Projects—Certificates

CAC-1.

Docket# CP00-48, 000, Tennessee Gas Pipeline Company

Other#s CP00-48, 001, Tennessee Gas Pipeline Company

CAC-2.

Omitted

CAC-3.

Docket# CP00-387, 000, PNM Gas Services, a Division of Public Service Company of New Mexico and PNM Electric and Gas Services, Inc.

Other#s CP00-388, 000, PNM Gas Services, a Division of Public Service Company of New Mexico and PNM Electric and Gas Services, Inc.

CP00-397, 000, PNM Gas Services, a Division Of Public Service Company of New Mexico and PNM Electric and Gas Services, Inc.

CAC-4.

Docket# CP00-401, 000, Suprex Energy Corporation

CAC-5.

Docket# CP00-396, 000, Delmarva Power & Light Company

CAC-6.

Docket# CP98-744, 000, Northern Natural Gas Company

Other#s CP99-188, 000, El Paso Offshore Gathering and Transmission Company

CAC-7.

Docket# CP97-561, 001, Tennessee Gas Pipeline Company

CAC-8.

Docket# RM98-16, 001, Collaborative Procedures for Energy Facility Applications

CAC-9.

Docket# CP96-178, 013, Maritimes & Northeast Pipeline, L.L.C.

Other#s CP96-809, 011, Maritimes & Northeast Pipeline, L.L.C.

CP96-810, 005, Maritimes & Northeast Pipeline, L.L.C.

CP97-238, 011, Maritimes & Northeast Pipeline, L.L.C.

CP98-724, 002, Maritimes & Northeast Pipeline, L.L.C.

CP98-797, 002, Maritimes & Northeast Pipeline, L.L.C.

CAC-10.

Omitted

CAC-11.

Docket# CP00-47, 001, Trans-Union Interstate Pipeline, L.P.

CAC-12.

Docket# CP96-73, 000, Seahawk Shoreline System

CAC-13.

Docket# CP95-735, 000, Murphy Exploration & Production Company v. Quivira Gas Company

Other#s CP95-735, 001, Murphy Exploration & Production Company v. Quivira Gas Company

CAC-14.

Docket# CP98-234, 003, Northern Natural Gas Company

CAC-15.

Docket# CP00-64, 000, Dominion Transmission, Inc.

Other#s CP00-64, 001, Dominion Transmission, Inc.

Energy Projects—Hydro Agenda

H-1.

Reserved

Energy Projects—Certificates Agenda

C-1.

Reserved

Markets, Tariffs and Rates—Electric Agenda

E-1.

Docket# RM98-4, 000, Revised Filing Requirements Under Part 33 of the Commission's Regulations

Order on Final Rule.

Markets, Tariffs and Rates—Gas Agenda

G-1.

Reserved

David P. Boergers,
Secretary.

[FR Doc. 00-27251 Filed 10-19-00; 12:39 pm]

BILLING CODE 6717-01-P